DEPARTMENT OF LABOR

Employment and Training Administration

[TA-W-64,643; TA-W-64,643A; TA-W-64,643B]

Amended Certification Regarding Eligibility To Apply for Worker Adjustment Assistance and Alternative Trade Adjustment Assistance

TA-W-64,643

Chrysler LLC, Headquarters, Including On-Site Leased Workers from Aerotek, Ajilon, Argos, Bartech Group, CDI Information Services, Computer Consultants of America, Inc., Computer Engrg Services, Epitec Group, Inc., GTECH Professional Staffing, Inc., JDM Systems Consultants, Inc., Kelly Services, Inc., Preferred Solutions, Resource Technologies Corp, Spherion, Synova, and TAC Transportation, Auburn Hills, Michigan

TA-W-64,643A

Chrysler LLC, Technology Center, Including On-Site Leased Workers from Aerotek, Ajilon, Altair Engineering, Applied Technologies, Inc., Argos, ASG Renaissance, Automated Analysis Corp/Belcan, Bartech Group, CAE Tech, CDI Information Services, CER-CAD Engineering Resources, Computer Consultants of America Inc., Computer Engrg Services, Compuware, Controller Technologies, Data Communications Corporation, Emerging Technologies Corp., Engineering Technology Assoc., Gonzalez Design Engineering, GTECH Professional Staffing, Incat, Jefferson Wells International, Kelly Services, Inc., Magnasteyr, Meda Technical Services, Modern Professional Services, MSX International, Optimal, Qquest Corporation, Quantum Consultants, Rapid Global Business Solutions, Inc., Resource Technologies Corp, Ricardo, RSB Systems, Inc., Spherion, Synova, Inc., Syntel Int'l, Inc., Systems Technology Group, Inc., TAC Transportation, TEC, Technical Training, Inc., UGS PLM Solutions, Inc., Unique Systems Design, Inc., Valley Forge, and Wel-Tek International Corp., Auburn Hills, Michigan

TA-W-64,643B

Chrysler LLC, Featherstone, Including On-Site Leased Workers from Aerotek, Bartech Group, CDI Information Services, Computer Consultants of America, Inc., Computer Engrg Services, Crassociates, GTECH Professional Staffing, Inc., Incat, JDM Systems Consultants, Inc., Kelly Services, Inc., Meda Technical Services, Modern Professional Services, MSX International, O/E Learning, Resource Technologies Corp, Ricardo, Spherion, Synova, Inc., Systems Technology Group, Inc., TAC Transportation, TEC, and Technical Training, Inc., Auburn Hills, Michigan

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 19, 2008, applicable to workers of Chrysler LLC, Headquarters, Auburn Hills, Michigan, Chrysler LLC, Technology Center, Auburn Hills, Michigan and Chrysler LLC, Featherstone, Auburn Hills, Michigan. The notice was published in the Federal Register on January 14, 2009 (74 FR 2136).

At the request of the State agency, the Department reviewed the certification for workers of the subject firm. The workers are engaged in activities related to the production of automotive vehicles and automotive vehicle parts.

New information shows that workers leased from the above mentioned firms were working on-site at the Chrysler LLC Headquarters, Technology Center and Featherstone facilities.

The Department has determined that these workers were sufficiently under the control of Chrysler LLC, Headquarters, Technology Center and Featherstone to be considered leased workers.

Based on these findings, the Department is amending this certification to include workers leased from the above mentioned firms working on-site at Auburn Hills, Michigan of the subject firm.

The amended notice applicable to TA-W-64,494 is hereby issued as follows:

All workers of Chrysler LLC, Headquarters, Auburn Hills, Michigan, including on-site leased workers from Aerotek, Ajilon, Argos, Bartech Group, CDI Information Services, Computer Consultants Of America, Inc., Computer Engrg Services, Epitec Group, Inc., Gtech Professional Staffing, Inc., JDM Systems Consultants, Inc., Kelly Services, Inc., Preferred Solutions, Resource Technologies Corp, Spherion, Synova, Inc., and TAC Transportation (TA-W-64,643); all workers of Chrysler LLC, Technology Center, Auburn Hills, Michigan, including on-site leased workers from Aerotek, Ajilon, Altair Engineering, Applied Technologies, Inc., Argos, ASG Renaissance, Automated Analysis Corp/Belcan, Bartech Group, CAE Tech, CDI Information Services, CER-CAD Engineering Resources, Computer Consultants of America Inc., Computer Engrg Services, Compuware, Controller Technologies, Data Communications Corporation, Emerging Technologies Corp., Engineering Technology Assoc., Gonzalez Design Engineering, GTECH Professional Staffing, Incat, Jefferson Wells International, Kelly Services, Inc., Magnasteyr, Meda Technical Services, Modern Professional Services, MSX International, Optimal, Qquest Corporation, Quantum Consultants, Rapid Global Business Solutions, Inc., Resource Technologies Corp, Ricardo, RSB Systems, Inc., Spherion, Synova, Inc., Syntel Int'l, Inc., Systems Technology Group, Inc., TAC Transportation, TEC, Technical Training, Inc., USG PLM Solutions, Inc., Unique Systems Design, Inc., Valley Forge, and Wel-Tek International Corp. (TA-W-64,643A), and all workers of Chrysler LLC, Featherstone, Auburn Hills, Michigan, including on-site leased workers from Aerotek, Bartech Group, CDI Information Services, Computer Consultants of America, Inc., Computer Engrg Services, Crassociates, GTECH Professional Staffing, Inc., Incat, JDM Systems Consultants, Inc., Kelly Services, Inc., Meda Technical Services, Modern Professional Services, MSX International, O/E Learning, Resource Technologies Corp, Ricardo, Spherion, Synova, Inc., Systems Technology Group, Inc., TAC Transportation, TEC, and Technical Training, Inc., (TA-W-64,643B), who became totally or partially separated from employment on or after December 2, 2007 through December 19, 2010, are eligible to apply for adjustment assistance under Section 223 of the Trade Act of 1974, and are also eligible to apply for alternative trade adjustment assistance under Section 246 of the Trade Act of 1974.”

Signed at Washington, DC this 24th day of April 2009.
Linda G. Poole,
Certifying Officer, Division of Trade Adjustment Assistance.

[FR Doc. E9-11435 Filed 5-15-09; 8:45 am]

BILLING CODE 4510-FN-P